FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, without revision, the Payments Research Survey (FR 3067; OMB No. 7100-0355).

DATES: Comments must be submitted on or before November 14, 2022.

ADDRESSES: You may submit comments, identified by FR 3067, by any of the following methods:

• Agency Website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St. NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement, and other documentation, will be made available on the Board's public website at https://www.federalreserve.gov/apps/reportforms/review.aspx or may be requested from the agency clearance officer, whose name appears above. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, Without Revision, the Following Information Collection

Collection title: Payments Research Survey.

Collection identifier: FR 3067.

OMB control number: 7100-0355.

Frequency: As needed.

Respondents: Private sector, individual consumers or households, and state and local government agencies.

Estimated number of respondents: Private sector, 4,300; Individual consumers or households, 5,500; State and local government agencies, 200.

Estimated average hours per response: Private sector, 1.5; Individual consumers or households, 1.5; State and local government agencies, 1.5.

Estimated annual burden hours: Private sector, 12,900; Individual consumers or households, 16,500; State and local government agencies. 600.

General description of collection: The FR 3067 is a series of surveys used to conduct research related to the Federal Reserve System's role in the payments system, including supervisory, regulatory, fiscal, or operational responsibilities. The survey topics are time-sensitive and the questions of interest vary with the focus of the survey. Because the relevant questions may change with each survey, there is no fixed reporting form. For each survey, the Board prepares questions of specific topical interest and then determines the relevant target group to contact.

Legal authorization and confidentiality: The Board uses the information obtained through the FR 3067 to discharge its statutory responsibilities, including those under the following statutes:

• Section 609 of the Expedited Funds Availability Act; ¹

¹ 12 U.S.C. 4008(c) (authorizing the Board to prescribe such regulations as it may determine appropriate to carry out its responsibility to regulate the payment system).

• Title VIII of the Dodd-Frank Wall Street Reform and Consumer Protection Act; ²

² 12 U.S.C. 5461(b) (authorizing the Board to promote uniform standards for the management of risks by systemically important financial market utilities and conduct of systemically important payment, clearing, and settlement activities by financial institutions, as well as providing an enhanced role in the supervision of risk management standards for systemically important financial market utilities and systemically important payment, clearing, and settlement activities by financial institutions).

• Sections 904 and 920 of the Electronic Fund Transfer Act; ³

³ 15 U.S.C. 1693b, 1693o-2 (authorizing the Board to prescribe regulations relating to interchange fees for electronic debit transactions and require any debit card issuer or payment card network to provide the Board with such information as may be necessary to carry out its responsibility to regulate interchange fees for electronic debit transactions).

• Section 7 of the Bank Service Company Act; ⁴

⁴ 12 U.S.C. 1867 (authorizing the Board to issue such regulations and orders as may be necessary to administer and carry out the purposes of the Bank Services Company Act and prevent evasions thereof).

• Section 15 of the Check Clearing for the 21st Century Act; ⁵ and

⁵ 12 U.S.C. 5014 (authorizing the Board to prescribe such regulations as it determines necessary to implement, prevent circumvention or evasion of, or facilitate compliance with the Expedited Funds Availability Act, as amended).

• Sections 2A, 11, 11A, 13, and 16 of the Federal Reserve Act.⁶

⁶ 12 U.S.C. 225a, 248, 248a, 342, 360, and 248-1 (inter alia, requiring the Board to maintain long run growth of the monetary and credit aggregates commensurate with the economy's long run potential to increase production, so as to promote effectively the goals of maximum employment, stable prices, and moderate long-term interest rates).

The FR 3067 surveys are voluntary. Individual respondents may request confidential treatment in accordance with the Board's Rules Regarding Availability of Information.⁷ Requests for confidential treatment of information are reviewed on a case-by-case basis. To the extent information provided on the FR 3067 is nonpublic commercial or financial information, which is both customarily and actually treated as private by the respondent, the information may be protected from disclosure pursuant to exemption 4 of the Freedom of Information Act.⁸

⁷ 12 CFR 261.17.

⁸ 5 U.S.C. 552(b)(4).

Board of Governors of the Federal Reserve System, September 12, 2022.
Margaret Shanks,
Deputy Secretary of the Board.

[FR Doc. 2022-19999 Filed 9-14-22; 8:45 am]

BILLING CODE 6210-01-P